DEPARTMENT OF DEFENSE

Department of the Navy

Notice of Partially Closed Meeting of the Chief of Naval Operations (CNO) Executive Panel

AGENCY: Department of the Navy, DoD.

ACTION: Notice.

SUMMARY: The Chief of Naval Operations (CNO) Executive Panel will report on the findings and recommendations to the Chief of Naval Operations of the Subcommittee on the Navy's Industrial Baseline in the Economic Downturn. The matters to be discussed during the meeting have been divided into Open and Closed matters.

Open matters to be discussed are: Current U.S. Navy budgets; Navy budget drivers; Navy's ability to plan, protect and optimize its future budgeting process; general anticipated effects on Navy's industrial base caused by the current state of the economy; related challenges facing this Administration and the U.S. Navy.

Closed matters to be discussed are: The current status of the U.S. Navy shipbuilding, aircraft, and science & technology industrial bases; near and far-term actions that the U.S. Navy can take to protect, provide visibility into the viability of second and third order suppliers, and optimize the Navy's industrial bases (quality, reliability, visibility, affectivity, flexibility, diversity, capacity, on-time delivery, and cost); and a conclusion/summary of the classified discussions. The executive session of this meeting will be closed to the public.

DATES: The open sessions of the meeting will be held on Monday, July 13, 2009, from 1 p.m. to 2 p.m. The closed Executive session will be held from 2:15 p.m. to 3:30 p.m.

ADDRESSES: The meeting will be held in Conference Room 1A01, CNA, 4825 Mark Center Drive, Alexandria, VA 22311-1846.

FOR FURTHER INFORMATION CONTACT: Mr. Brian D. Shaw, CNO Executive Panel, 4825 Mark Center Drive, Alexandria, VA 22311-1846, (703) 681-4906.

SUPPLEMENTARY INFORMATION: The matters to be presented during the closed session of this meeting are of acquisition sensitive and/or business/proprietary nature and as such cannot be released to the public. Pursuant to title 5 of the United States Code, section 552b(c)(4), these matters are exempt from public disclosure.

Individuals or interested groups may submit written statements for consideration by the CNO Executive Panel at any time or in response to the agenda of the scheduled meeting. All requests or statements must be submitted to the Designated Federal Officer at the address detailed below.

Statements submitted in response to the agenda mentioned in this meeting notice must be received by the CNO Executive Panel at least five days prior to the respective meeting to allow adequate time for consideration.

The Designated Federal Officer will review all timely submissions with the CNO Executive Panel Chairperson and will ensure they are provided to members of the CNO Executive Panel before the meeting that is the subject of this notice.

To contact the Designated Federal Officer, write to Executive Director, CNO Executive Panel (N00K), 4825 Mark Center Drive, 2nd Floor, Alexandria, VA 22311-1846.

Dated: June 23, 2009.
A.M. Vallandingham,
Lieutenant Commander, Office of the Judge Advocate General, U.S. Navy, Federal Register Liaison Officer.

[FR Doc. E9-15244 Filed 6-26-09; 8:45 am]

BILLING CODE 3810-FF-P